DEPARTMENT OF THE INTERIOR

National Park Service

Notice of Inventory Completion: Arizona State University, School of Human Evolution & Social Change, Tempe, AZ

AGENCY: National Park Service, Interior.

ACTION: Notice.

Notice is here given in accordance with the Native American Graves Protection and Repatriation Act (NAGPRA), 25 U.S.C. 3003, of the completion of an inventory of human remains in the control of the Arizona State University, School of Human Evolution & Social Change (formerly the Department of Anthropology), Tempe, AZ. The human remains were removed from the vicinity of the New River Dam, Maricopa County, AZ.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Arizona State University, School of Human Evolution & Social Change professional staff in consultation with representatives of the Hopi Tribe of Arizona; Tohono O'odham Nation of Arizona; and Zuni Tribe of the Zuni Reservation, New Mexico.

In 1981, human remains representing a minimum of three individuals were removed from Site AZ T:08:0001 (ASU) (NA 16, 757), Maricopa County, AZ, by Museum of Northern Arizona staff during research for the New River Dam Site that was being sponsored by the U.S. Army Corps of Engineers. The cremated human remains were removed from the site during test excavations. No known individuals were identified. No associated funerary objects are present.

In 1981, human remains representing a minimum of two individuals were removed from Site AZ T:08:0023 (ASU) (NA 16, 759), Maricopa County, AZ, by Museum of Northern Arizona staff during research for the New River Dam Site that was being sponsored by the U.S. Army Corps of Engineers. The cremated remains were removed from contexts exposed on the surface during test excavations. No known individuals were identified. No associated funerary objects are present.

In 1981, human remains representing a minimum of six individuals were removed from site AZ T:08:0024 (ASU) (NA 16, 760), Maricopa County, AZ, by Museum of Northern Arizona staff during research for the New River Dam Site that was being sponsored by the U.S. Army Corps of Engineers. The human remains were removed from cremation contexts during test excavations. No known individuals were identified. No associated funerary objects are present.

The human remains from the three sites were recovered as part of archeological investigations at the New River Dam Site by the Museum of Northern Arizona staff under contract with the U.S. Army Corps of Engineers. The project collection is curated at the Arizona State University, School of Human Evolution & Social Change under agreement with the U.S. Army Corps of Engineers. The U.S. Army Corps of Engineers is not responsible for this collection.

Occupation of the three sites dates to the Late Colonial and Sedentary Periods (A.D. 800-1150). Based on the burial practice of cremation and the age of the sites, the human remains are affiliated with the archeologically defined Hohokam culture. Descendants of the Hohokam culture are the Hopi Tribe of Arizona; Tohono O'odham Nation of Arizona; and Zuni Tribe of the Zuni Reservation, New Mexico.

Officials of the Arizona State University have determined that, pursuant to 25 U.S.C. 3001 (9-10), the human remains described above represent the physical remains of 11 individuals of Native American ancestry. Officials of the Arizona State University also have determined that, pursuant to 25 U.S.C. 3001 (2), there is a relationship of shared group identity that can be reasonably traced between the Native American human remains and the Hopi Tribe of Arizona; Tohono O'odham Nation of Arizona; and Zuni Tribe of the Zuni Reservation, New Mexico.

Representatives of any other Indian tribe that believes itself to be culturally affiliated with the human remains should contact Dr. Arleyn Simon, School of Human Evolution & Social Change, Arizona State University, Box 872402, Tempe, AZ 85287-2402, telephone (480) 965-9231, before April 6, 2009. Repatriation of the human remains to the Hopi Tribe of Arizona; Tohono O'odham Nation of Arizona; and Zuni Tribe of the Zuni Reservation, New Mexico may proceed after that date if no additional claimants come forward.

The School of Human Evolution & Social Change is responsible for notifying the Hopi Tribe of Arizona; Tohono O'odham Nation of Arizona; and Zuni Tribe of the Zuni Reservation, New Mexico, that this notice has been published.

Dated: February 20, 2009.
David Tarler,
Acting Manager, National NAGPRA Program.

[FR Doc. E9-4681 Filed 3-5-09; 8:45 am]

BILLING CODE 4312-50-S